DEPARTMENT OF TRANSPORTATION

Federal Aviation Administration

Notice of Availability of the Draft Environmental Assessment for the Proposed Actions Relating to the Change in Departure Procedure at Sarasota Manatee International Airport and Public Comment

AGENCY: Federal Aviation Administration (FAA).

ACTION: Notice of availability and request for comments.

SUMMARY: The Federal Aviation Administration (FAA) announces the availability of the Draft Environmental Assessment (DEA) for a proposed departure procedure at Sarasota Manatee International Airport and request for comments.

The DEA was prepared pursuant to the National Environmental Policy Act (NEPA) of 1969, as amended; FAA Order 1050.1D, Policies and Procedures for Considering Environmental Impacts and other applicable environmental laws and regulations. The DEA assesses the effects of proposed Federal actions under consideration by the FAA. The proposed actions are intended to achieve noise level reductions over the neighboring community in Manatee County north of the airport. The proposed actions include the following: (1) turning aircraft departing Runway 32 to the northwest over land-use areas that are more compatible with the noise emissions of aircraft and (2) reducing significant residential noise levels caused by aircraft executing the new turn.

DATES: The opportunity to provide written comments on the DEA will extend 45 days from the date of publication in the Federal Register. Late filed comments will be considered to the extent practicable.

ADDRESSES: Written comments on the Draft EA may be mailed, in triplicate, to: Federal Aviation Administration, Attention: Nancy Shelton, Air Traffic Airspace Branch, ASO-520, 1701 Columbia Ave., College Park, GA, 30337-2745.

FOR FURTHER INFORMATION CONTACT: Questions concerning this Draft EA or the process being applied by the FAA should be directed to Nancy Shelton via telephone at (404) 305-5585, or in writing to the above address.

SUPPLEMENTARY INFORMATION: The purpose of this Notice is to inform the public and local, State and Federal government agencies of the availability of the draft supplemental EA. It also provides interested parties with an opportunity to present to the FAA their opinions, comments, information or other relevant observations relating to the potential environmental impacts of these proposals.

The DEA is not being published in today's Federal Register due to its size and the detailed graphics on the charts contained in it. However, to maximize the opportunities for public participation in this environmental process, copies of the draft EA are available for review at the following libraries:

Longboat Key Library, 555 Bay Isles Rd., Longboat Key, FL.

Manatee County Public Library, 1301 Barcarrota Blvd. West, Bradenton, FL.

Selby Public Library, 1331 First Street, Sarasota, FL.

Issued in College Park, Georgia on April 26, 2000.
Dennis T. Koehler,
Manager, Air Traffic Division.

[FR Doc. 00-10917 Filed 5-1-00; 8:45 am]

BILLING CODE 4910-13-M